DEPARTMENT OF COMMERCE

International Trade Administration

[A-570-868]

Notice of Final Determination of Sales at Less Than Fair Value: Folding Metal Tables and Chairs from the People's Republic of China

AGENCY: Import Administration, International Trade Administration, Department of Commerce.

DATES: April 24, 2002.

FOR FURTHER INFORMATION CONTACT: Helen Kramer or John Drury at (202) 482-0405 and (202) 482-0195, respectively, Import Administration, International Trade Administration, U.S. Department of Commerce, 14th Street and Constitution Avenue, NW, Washington, D.C. 20230.

SUPPLEMENTARY INFORMATION:

The Applicable Statute and Regulations

Unless otherwise indicated, all citations to the statute are references to the provisions effective January 1, 1995, the effective date of the amendments made to the Tariff Act of 1930(“the Act”) by the Uruguay Round Agreements Act (“URAA”). In addition, unless otherwise indicated, all citations to the Department of Commerce (“the Department”) regulations are to the regulations at 19 CFR Part 351 (2001).

Final Determination

We determine that folding metal tables and chairs (“FMTC”) from the People's Republic of China are being, or are likely to be, sold in the United States at less than fair value (“LTFV”), as provided in section 735 of the Act. The estimated margin of sales at LTFV is shown in the “Continuation of Suspension of Liquidation” section of this notice.

Scope of Investigation

The merchandise subject to this investigation consists of assembled and unassembled folding tables and folding chairs made primarily or exclusively from steel or other metal, as described below:

1) Assembled and unassembled folding tables made primarily or exclusively from steel or other metal (“folding metal tables”). Folding metal tables include square, round, rectangular, and any other shapes with legs affixed with rivets, welds, or any other type of fastener, and which are made most commonly, but not exclusively, with a hardboard top covered with vinyl or fabric. Folding metal tables have legs that mechanically fold independently of one another, and not as a set. The subject merchandise is commonly, but not exclusively, packed singly, in multiple packs of the same item, or in five piece sets consisting of four chairs and one table. Specifically excluded from the scope of folding metal tables are the following:

• Lawn furniture;

• Trays commonly referred to as “TV trays ”;

• Side tables;

• Child-sized tables;

• Portable counter sets consisting of rectangular tables 36” high and matching stools; and

• Banquet tables. A banquet table is a rectangular table with a plastic or laminated wood table top approximately 28” to 36” wide by 48” to 96” long and with a set of folding legs at each end of the table. One set of legs is composed of two individual legs that are affixed together by one or more cross-braces using welds or fastening hardware. In contrast, folding metal tables have legs that mechanically fold independently of one another, and not as a set.

2) Assembled and unassembled folding chairs made primarily or exclusively from steel or other metal (“folding metal chairs”). Folding metal chairs include chairs with one or more cross-braces, regardless of shape or size, affixed to the front and/or rear legs with rivets, welds or any other type of fastener. Folding metal chairs include: those that are made solely of steel or other metal; those that have a back pad, a seat pad, or both a back pad and a seat pad; and those that have seats or backs made of plastic or other materials. The subject merchandise is commonly, but not exclusively, packed singly, in multiple packs of the same item, or in five piece sets consisting of four chairs and one table. Specifically excluded from the scope of folding metal chairs are the following:

• Folding metal chairs with a wooden back or seat, or both;

• Lawn furniture;

• Stools;

• Chairs with arms; and

• Child-sized chairs.

The subject merchandise is currently classifiable under subheadings 9401710010, 9401710030, 9401790045, 9401790050, 9403200010 and 9403200030 of the HTSUS. Although the HTSUS subheadings are provided for convenience and U.S. Customs Service purposes, the Department's written description of the merchandise is dispositive.

Case History

The preliminary determination in this investigation was published on December 3, 2001. See Notice of Preliminary Determination of Sales at Less Than Fair Value:Folding Metal Tables and Chairs from the People's Republic of China, 66 FR 60185 (“Preliminary Determination”). The investigation covers two manufacturers/exporters, Feili Furniture Development Co., Ltd. and Feili (Fujian) Co., Ltd. (“Feili Group”) and Shin Crest Pte. Ltd. (“Shin Crest”). The petitioner is Meco Corporation.

The Department verified Feili Group's and Shin Crest's responses to the antidumping questionnaire from January 14 - 18, 2002 (Feili Group) and from January 21 - 25, 2002 (Shin Crest). We invited parties to comment on our Preliminary Determination. We received comments and rebuttal briefs from the petitioner, Feili Group, and Shin Crest. At the requests of the petitioner and Feili Group, a hearing was held on March 22, 2002. On March 22, 2002, the petitioner filed an allegation of critical circumstances in this investigation.

Based on our analysis of verification findings and the comments received, we have made changes in the margin calculation. Therefore, the final determination differs from the preliminary determination.

Period of Investigation

The Period of Investigation (“POI”) is October 1, 2000 through March 31, 2001.

Non-Market Economy

The Department has treated the PRC as a non-market economy (NME) country in all its past antidumping investigations. See, e.g., Notice of Final Determination of Sales at Less Than Fair Value: Honey from the People's Republic of China, 66 FR 50608 (October 4, 2001) and Notice of Final Determination of Sales at Less Than Fair Value: Certain Folding Gift Boxes from the People's Republic of China, 66 FR 58115 (November 20, 2001). A designation as an NME country remains in effect until it is revoked by the Department. See section 771(18)(C) of the Act. The respondents in this investigation have not requested a revocation of the PRC's NME status. Therefore, we have continued to treat the PRC as an NME in this investigation. For further details, see the department's Preliminary Determination.

Separate Rates

In our Preliminary Determination, we found that the mandatory respondents, Feili Group and Shin Crest, had met the criteria for the application of separate antidumping duty rates and that the cooperative PRC companies, Dongguan Shichang Metals Factory Co. Ltd. (“Dongguan”) and New-Tec Integration Co., Ltd. (“New-Tec”), had met the criteria for a rate equal to the weighted-average of the mandatory respondents' rates (excluding zero or de minimis rates and rates based entirely on adverse facts available). We have not received any other information since the Preliminary Determination which would warrant reconsideration of our separates rates determination with respect to these companies. Therefore, we continue to find that the respondents should be assigned individual dumping margins and that Dongguan and New-Tec should be assigned a weighted-average rate. For a complete discussion of the Department's determination that the respondents are entitled to separate rates, see the Preliminary Determination.

The PRC-Wide Rate

For the reasons set forth in the Preliminary Determination, we continue to believe that use of adverse facts available for the PRC-wide rate is appropriate. See Preliminary Determination, 66 FR at 60189-90.

Surrogate Country

For purposes of the final determination, we find that India remains the appropriate surrogate country for the PRC. For further discussion and analysis regarding the surrogate country selection for the PRC, see the Department's Preliminary Determination and the Memorandum to Richard O. Weible from John Drury and Helen M. Kramer on Surrogate Country Selection (November 23, 2001) on file in the Department's Central Records Unit, Room B-099 of the Main Department of Commerce Building.

Critical Circumstances

On March 22, 2002, the petitioner filed an allegation of critical circumstances in this investigation based on data for one importer. Because the calculated margins for both Shin Crest and Feili Group in the final determination are below 25 percent, the Department's threshold for imputing knowledge of dumping for EP sales is not met. We therefore do not find critical circumstances with respect to these companies. As to Dongguan and New-Tec, the PRC exporters that were not selected as respondents but did not fail to respond to our requests for information, the final margins also are below 25 percent. Therefore, we do not find critical circumstances with respect to these exporters. See Notice of Final Determination of Sales at Less Than Fair Value: Certain Non-Frozen Apple Juice Concentrate from the People's Republic of China, 65 FR 19873 (April 13, 2000).

With respect to exporters subject to the PRC-wide rate, the final margin is above 25 percent. Furthermore, the ITC preliminarily determined that there is material injury by reason of imports of the subject merchandise. Therefore, the first prong of the test is met. With regard to massive imports, because the PRC-wide entity failed to respond to our request for information, the Department has based its massive imports determination on facts available and used an adverse inference in accordance with section 776(b) of the Act. We cannot use U.S. Customs import data to analyze imports from the PRC-wide entity, in part because the relevant product categories include both subject and non-subject merchandise. Because we have no independent means by which to determine import levels for the PRC-wide entity, we have determined, as adverse facts available, that there were massive imports. Accordingly, we determine that there are critical circumstances with respect to the PRC-wide entity.

For a discussion of interested party comments on this issue, see Issues and Decision Memorandum for the Less Than Fair Value Investigation of Folding Metal Tables and Chairs from the People's Republic of China from Joseph A. Spetrini, Deputy Assistant Secretary, Import Administration, to Faryar Shirzad, Assistant Secretary for Import Administration, dated April 17, 2002 (“Issues and Decision Memorandum”).

Analysis of Comments Received

All issues raised in the case briefs by parties to this investigation are addressed in the Issues and Decision Memorandum. A list of the issues which parties raised, and to which we have responded, all of which are in the Issues and Decision Memorandum, is attached to this notice as an Appendix. Parties can find a complete discussion of all issues raised in this investigation and the corresponding recommendations in this public memorandum, which is on file in the Central Records Unit. In addition, a complete version of the Issues and Decision Memorandum can be accessed directly on the Internet at http://ia.ita.doc.gov/. The paper copy and electronic version of the Issues and Decision Memorandum are identical in content.

Changes Since the Preliminary Determination

Based on our findings at verification, and analysis of comments received, we have made corrections to the respondents' reported factor usage and surrogate value changes. We have also corrected certain clerical errors in our preliminary determination. These changes are discussed in the relevant sections of the Issues and Decision Memorandum. See also the Factors of Production Valuation Memorandum for the Final Determination, dated April 17, 2002, and the respective Analysis Memorandum for the Final Determination for Feili Group and Shin Crest on the same date.

Verification

As provided in section 782(i) of the Act, we verified the information submitted by the mandatory respondents for use in our final determination. We used standard verification procedures including examination of relevant accounting and production records, and original source documents provided by the respondents. For changes from the Preliminary Determination as a result of verification, see the Analysis Memorandums.

Continuation of Suspension of Liquidation

In accordance with section 735(c)(1)(B)(ii) of the Act, we are directing the Customs Service to continue to suspend liquidation of entries of subject merchandise from the PRC exported by Feili Group, Shin Crest, Dongguan and New-Tec that are entered, or withdrawn from warehouse, for consumption on or after December 3, 2001. With respect to the PRC-wide entity, we are directing the Customs Service to suspend liquidation of entries of subject merchandise entered on or afer September 4, 2001, the date 90 days prior to the date of publication of the preliminary determination in the Federal Register, in accordance with our critical circumstances finding. We will instruct the Customs Service to require a cash deposit or the posting of a bond equal to the weighted-average amount by which the normal value exceeds the U.S. price, as indicated in the chart below. These suspension-of-liquidation instructions will remain in effect until further notice.

The margins in the final determination are as follows:

Exporter/Manufacturer | Weighted-Average Percent ­ Margin
Shin Crest Pte. Ltd. | 00.00
Feili Furniture Development Co., Ltd. and Feili (Fujian) Co., Ltd. | 23.48
Dongguan Shichang Metals Factory Co. Ltd. | 23.48
New-Tec Integration Co., Ltd. | 23.48
PRC-Wide | 70.71

ITC Notification

In accordance with section 735(d) of the Act, we have notified the International Trade Commission (“ITC”) of our determination. As our final determination is affirmative, the ITC will, within 45 days, determine whether these imports are materially injuring, or threaten material injury to, the U.S. industry. If the ITC determines that material injury, or threat of material injury does not exist, the proceeding will be terminated and all securities posted will be refunded or canceled. If the ITC determines that such injury does exist, the Department will issue an antidumping duty order directing Customs officials to assess antidumping duties on all imports of the subject merchandise entered for consumption on or after the effective date of the suspension of liquidation.

This determination is issued and published in accordance with sections 735(d) and 777(i)(1) of the Act.

DATED: April 17, 2002
Bernard T. Carreau,
Acting Assistant Secretary for Import Administration.

Appendix

List of Comments and Responses

1. Whether import prices paid by Feili Group for cold-rolled steel coils from Korea may be distorted by reason of subsidies

2. Whether import prices paid by Feili Group and Shin Crest for inputs from Taiwan may be distorted by reason of subsidies

3. Whether Shin Crest is affiliated with its steel supplier in Taiwan by reason of control and its import prices should be disregarded

4. Whether the Department's practice regarding allegedly dumped inputs is too restrictive, and the Department should disregard Shin Crest's import prices for steel as putatively dumped

5. Whether it is appropriate to use Indian surrogate values for steel if the Department disregards market economy prices for steel from Korea and/or Taiwan

6. Whether the Department should disregard Indian steel imports from Belgium, Brazil, France, Korea, Russia, South Africa, Thailand and Ukraine in calculating surrogate value

7.Whether Feili Group's “multi-chair” falls within the scope of the investigation

8. Whether National Public Seating Corp.'s double-hinged commercial chair is within the scope

9. Whether the Department should use P.T. Lion Metal Works' financial statements to value overhead, SG&A and profit

10. Whether the Department should use adverse facts available (“FA”) to calculate the PRC-wide margin

11. Whether the Department should use updated Indian import statistics for surrogate values and “correct” the exchange rate

12. Whether the dates of sale for Feili Group and Shin Crest should be the purchase order date

13. Whether the Department should apply adverse FA to Feili Group's steel consumption

14. Whether the Department should apply a value to steel Feili Group purchased before the POI and used during the POI

15. Whether Feili Group should be required to report usage rates for inputs purchased from third parties

16. Whether the Department should deny a steel scrap adjustment to Feili Group

17. Whether the Department should apply the Indian surrogate value for supported vinyl to all of Feili Group's vinyl consumption

18. Whether Feili Group impermissibly included physically different models in the same control number

19. Whether the Department should require Feili Group to report the usage rate for plastic pellets used to make cup corners for folding metal tables

20. Whether the Department should assume Feili Group's production workers worked 12-hour shifts

21. Whether the Department used the wrong weight for sets in the margin calculation program for Feili Group

22. Whether the Department used the wrong inflation rate to value electricity for Feili Group

23. Whether the Department incorrectly used Feili Group's market economy purchases of plastic pellets to value nylon caps instead of the Indian surrogate value for plastic caps

24. Whether the Department incorrectly calculated the surrogate value of poly bags for Feili Group

25. Whether the Department erred in adding, instead of subtracting, the steel scrap offset for Feili Group

26. Whether the Department should correct the surrogate value for wooden pallets by dividing the average value by the average pallet weight for Feili Group

27. Whether the Department incorrectly included Indian import values for cardboard other than boxes in its calculation of surrogate value for cardboard cartons for Feili Group

28. Whether the Department made clerical errors in calculations of surrogate values for screws. other metal fittings and rubber washers for Feili Group

29. Whether the Department should correct the weights of foam, vinyl and fabric inputs incorrectly reported by Feili Group

30. Whether the Department should correct the number of tables packed in a carton for Feili Group

31. Whether Shin Crest should include inland freight for one U.S. sale in the sales listing

32. Whether the Department should apply adverse FA for Shin Crest's consumption of hardboard because it was not verified

33. Whether the Department should apply Feili Group's usage of wooden pallets for packing to Shin Crest as FA

34. Whether the Department's calculations of the surrogate value of water were incorrect

35. Whether the Department should make a finding of critical circumstances for all Chinese producers of folding metal tables and chairs

[FR Doc. 02-10071 Filed 4-23-02; 8:45 am]

BILLING CODE 3510-DS-S